DEPARTMENT OF DEFENSE

Office of the Secretary

[Transmittal No. 25-40]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-40, Policy Justification, and Sensitivity of Technology.

Dated: January 16, 2026.
Stephanie J. Bost,
Alternate OSD Federal Register Liaison Officer, Department of Defense.

BILLING CODE 6001-FR-P

BILLING CODE 6001-FR-C

Transmittal No. 25-40

Notice of Proposed Issuance of Letter of Offer Pursuant to Section 36(b)(1) of the Arms Export Control Act, as Amended

(i) Prospective Purchaser: Government of Canada

(ii) Total Case Estimated Value:

Major Defense Equipment * | $ 30 million
Other | $130 million
TOTAL | $160 million

(iii) Description and Quantity or Quantities of Articles or Services under Consideration for Purchase:

Major Defense Equipment (MDE):

Forty-two (42) M1278A2 Joint Light Tactical Vehicles (JLTVs), Heavy Guns Carrier (HGC)

Eighteen (18) M1279A2 JLTVs, utility truck

Nine (9) M1289 JLTV cargo trailers

Non-Major Defense Equipment:

The following non-MDE items will also be included: M153 Common Remotely Operated Weapon Stations (CROWS); Protector RS4 Remote Weapon System (RWS); Mounted Assured Position, Navigation, and Timing (PNT) System (MAPS); TRX Dismounted PNT System (DAPS); Type 1 radio systems, including Tactical Network Rover 2e (TNR2e), AN/PRC-148F, AN/PRC-163, and AN/PRC-167; system unique integration; Objective Gunner Protection Kits (OGPK); driver's vision enhancement (DVE); spare and repair parts; special tools and test equipment (STTE); technical manuals and publications; maintenance trainers; new equipment training; total package fielding support; depot level maintenance/repair and return support; United States (U.S.) Government and contractor technical, engineering, and logistics personnel services; and other related elements of logistics and program support.

(iv) Military Department: Army (CN-B-VBV)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: August 8, 2025

* as defined in Section 47(6) of the Arms Export Control Act.

POLICY JUSTIFICATION

Canada—Joint Light Tactical Vehicles

The Government of Canada has requested to buy forty-two (42) M1278A2 Joint Light Tactical Vehicles (JLTVs), Heavy Guns Carrier (HGC); eighteen (18) M1279A2 JLTVs, utility truck; and nine (9) M1289 JLTV cargo trailers. The following non-MDE items will also be included: M153 Common Remotely Operated Weapon Stations (CROWS); Protector RS4 Remote Weapon System (RWS); Mounted Assured Position, Navigation, and Timing (PNT) System (MAPS); TRX Dismounted PNT System (DAPS); Type 1 radio systems, including Tactical Network Rover 2e (TNR2e), AN/PRC-148F, AN/PRC-163, and AN/PRC-167; system unique integration; Objective Gunner Protection Kits (OGPK); driver's vision enhancement (DVE); spare and repair parts; special tools and test equipment (STTE); technical manuals and publications; maintenance trainers; new equipment training; total package fielding support; depot level maintenance/repair and return support; U.S. Government and contractor technical, engineering, and logistics personnel services; and other related elements of logistics and program support. The estimated total program cost is $160 million.

This proposed sale will support the foreign policy and national security objectives of the U.S. by helping to improve the military capability of Canada, a NATO Ally that is an important force for ensuring political stability and economic progress, and a contributor to military, peacekeeping, and humanitarian operations around the world.

The proposed sale will improve Canada's ability to meet current and future threats and enhance its ability to operate in more complex and rapidly changing environments. The proposed sale would also contribute to increased burden-sharing with allies and partners in support of peace operations and peacekeeping around the world. Canada will have no difficulty absorbing these articles and services into its armed forces.

The proposed sale of this equipment and support will not alter the basic military balance in the region.

The principal contractors will be AM General, LLC, located in Auburn Hills, MI and Mishawaka, IN. At this time, the U.S. Government is not aware of any offset agreement proposed in connection with this potential sale. Any offset agreement will be defined in negotiations between the purchaser and the contractor.

Implementation of this proposed sale will require multiple trips to Canada involving up to fifteen U.S. Government and twenty contractor representatives for a period of up to six years, to manage end-to-end fielding, training, and logistics support for the program.

There will be no adverse impact on U.S. defense readiness as a result of this proposed sale.

Transmittal No. 25-40

Notice of Proposed Issuance of Letter of Offer Pursuant to Section 36(b)(1) of the Arms Export Control Act

Annex

Item No. vii

(vii) Sensitivity of Technology:

1. The Joint Light Tactical Vehicle (JLTV) is a light tactical vehicle designed to replace the U.S. military's aging High Mobility Multipurpose Wheeled Vehicle fleet. It was designed to close the existing gap in payload, performance, and protection with our adversaries during multi-domain operations. It is an optimal choice for a spectrum of light tactical vehicle missions anywhere in the world. All JLTV mission variants include a strong balance of protection, maneuverability, speed, reliability, and combat service support capability that far surpasses any similar vehicle in its weight class today.

2. The JLTV is designed to be a system of systems. The JLTV uses a modular design that allows it to integrate with various materiel and equipment used by U.S. forces in tactical operations.

3. The A-Kit armor is installed into the base vehicle during JLTV production and provides both opaque and transparent armor solutions to provide a 360-degree azimuthal (i.e. all around) protection that includes an elevated fire level of protection from a spectrum of kinetic energy and small arms fire threats. The JLTV also has other survivability enhancements, notably automatic fire extinguishing protection and structural rollover protection of 150 percent of the vehicle's Gross Vehicle Weight Rating.

4. The Common Remote Operated Weapon Station (CROWS) is an externally mounted weapon mounting and control system that allows the gunner to remain inside the vehicle's protected armor while firing a variety of crew-served weapons. The CROWS provides remote day and night sighting and ballistic control capacity, enabling first-burst engagement of targets at maximum effective weapon range while on the move.

5. The Mounted Assured Position, Navigation, and Timing (PNT) System Generation II (MAPS GEN II) is a platform mounted, ruggedized tactical PNT system that gives military forces the ability to move, shoot, and communicate, and provides situational awareness in space-based GPS-limited or -denied environments. The system features anti-jamming and anti-spoofing protection, and a sensor fusion processor utilizing PNT sources. The MAPS GEN II contains Controlled Unclassified Information (CUI) and, in some cases, information classified up to SECRET.

6. The TRX Dismounted Assured PNT System (DAPS) is a highly accurate technology designed to provide robust PNT capabilities in GPS-degraded or denied environments. This system is M-Code compliant and integrates advanced anti-jamming and anti-spoofing technologies, ensuring operational effectiveness in contested environments. Given its military-grade applications, the TRX-DAPS GEN II incorporates proprietary algorithms, classified signal processing techniques, and secure communication protocols that are critical to national security. The system's ability to maintain precise navigation in electronic warfare scenarios makes it a key asset for defensive operations.

7. The Tactical Network Rover 2e (TNR2e) is a Type 1 cryptographic radio certified by the National Security Agency (NSA) for securing classified and sensitive communications. As a Type 1 system, it incorporates highly encrypted algorithms and security measures designed to protect national security information form sophisticated cyber threats and adversaries. Due to its sensitive nature, the system is subject to strict handling, usage, and export control regulations to ensure its integrity and prevent unauthorized access.

8. The AN/PRC-148F is a multiband, multimode handheld radio designed for secure military and government communications. As a Type 1 cryptographic device certified by the NSA, it supports the transmission of classified information when properly keyed. The radio features wideband and narrowband operation, frequency hopping, and embedded encryption, ensuring secure and reliable voice and data communications in a contested environment. Additionally, it offers satellite communication (SATCOM) capabilities, software-defined architecture, and interoperability with joint and coalition forces.

9. The Type 1 AN/PRC-163 Multi-channel Handheld Radio is a versatile, secure solution that leverages crossbanding to provide simultaneous data & voice across SATCOM, Line-of-Sight, and Mobile Ad-hoc Networking (MANET) modes. As mission needs evolve, this software-defined handheld supports fast, in-field updates to new capabilities. An external mission module hardware interface allows warfighters to quickly add options including Intelligence, Surveillance, and Reconnaissance (ISR) video and SATCOM.

10. The AN/PRC-167 is a multi-domain multi-channel tactical narrow and wide-band dual transceiver radio system providing Type 1 encryption and Selective Availability Anti-Spoofing Module (SAASM) GPS location and timing capabilities. The system can provide wide-band high-assurance self-healing networking capabilities and over-the-horizon Mobile User Objective System capabilities. Each transceiver is software programmable operating in the 30-512 MHz and 764-2600 MHz frequency ranges. The system can operate using the following waveforms: narrow-band analog/PCM AM/FM, CVSD ASK/FSK cipher text, wideband 2400 bps and LPC/2400 Mixed Excitation Linear Prediction (MELP)—SATCOM. As a Type 1 secure system, the AN/PRC-167 is considered an unclassified controlled cryptographic item (CCI).

11. The highest level of classification of defense articles, components, and services included in this potential sale is SECRET.

12. If a technologically advanced adversary were to obtain knowledge of the specific hardware and software elements, the information could be used to develop countermeasures that might reduce weapon system effectiveness or be used in the development of a system with similar or advanced capabilities.

13. A determination has been made that Canada can provide substantially the same degree of protection for the sensitive technology being released as the U.S. Government. This proposed sale is necessary in furtherance of the U.S. foreign policy and national security objectives outlined in the Policy Justification.

14. All defense articles and services listed in this transmittal have been authorized for release and export to the Government of Canada.

[FR Doc. 2026-01127 Filed 1-21-26; 8:45 am]

BILLING CODE 6001-FR-P